DEPARTMENT OF COMMERCE

International Trade Administration

[A-570-851]

Certain Preserved Mushrooms From the People's Republic of China: Initiation of Eighth New Shipper Antidumping Duty Review

AGENCY: Import Administration, International Trade Administration, Department of Commerce.

SUMMARY: On August 31, 2004, the Department of Commerce received a request to conduct a new shipper review of the antidumping duty order on certain preserved mushrooms from the People's Republic of China (“PRC”). In accordance with 19 CFR 351.214(d), we are initiating a new shipper review for Blue Field (Sichuan) Food Industrial Co., Ltd. (“Blue Field”), a producer and exporter of certain preserved mushrooms from the PRC.

DATES: Effective September 24, 2004.

FOR FURTHER INFORMATION CONTACT: Brian Smith or Steve Winkates, Import Administration, International Trade Administration, U.S. Department of Commerce, 14th Street and Constitution Avenue, NW., Washington, DC 20230; telephone (202) 482-1766 or (202) 482-1904, respectively.

SUPPLEMENTARY INFORMATION:

Background

The Department received a timely request on August 31, 2004, from Blue Field, in accordance with 19 CFR 351.214(c), for a new shipper review of the antidumping duty order on certain preserved mushrooms from the PRC, which has an August semi-annual anniversary month. Blue Field identified itself as the producer of the preserved mushrooms it exports.

As required by 19 CFR 351.214(b)(2)(i), (ii), and (iii)(A), Blue Field certified that it did not export certain preserved mushrooms to the United States during the period of investigation (“POI”), and that it has never been affiliated with any exporter or producer which did export certain preserved mushrooms during the POI. Blue Field further certified that its export activities are not controlled by the central government of the PRC, satisfying the requirements of 19 CFR 351.214(b)(2)(iii)(B). Pursuant to 19 CFR 351.214(b)(2)(iv)(A), Blue Field provided the date of the first sale to an unaffiliated customer in the United States. Blue Field submitted documentation establishing the date on which it first shipped the subject merchandise to the United States and the volume of that shipment.

In accordance with section 751(a)(2)(B) of the Tariff Act of 1930 (“the Act”), as amended, and 19 CFR 351.214(b), and based on our analysis of the information and documentation provided with this new shipper review request, as well as our analysis of proprietary import data from the U.S. Customs and Border Protection (“CBP”), we find that Blue Field has met the requirements under which the Department can initiate a new shipper review (for more details, see New Shipper Initiation Checklist for Blue Field, dated September 10, 2004). Therefore, we are initiating a new shipper review for Blue Field.

In cases involving non-market economies, it is the Department's normal practice to require that a company seeking to establish eligibility for an antidumping duty rate separate from the country-wide rate provide de jure and de facto evidence of an absence of government control over the company's export activities. Accordingly, we will issue a questionnaire to Blue Field (including a complete separate rates section), allowing approximately 37 days for response. If Blue Field's response provides sufficient indication that it is not subject to either de jure or de facto government control with respect to its exports of certain preserved mushrooms, the review will proceed. If the respondent does not demonstrate its eligibility for a separate rate, then it will be deemed to be affiliated with other companies that exported during the POI and that it did not establish entitlement to a separate rate, and the review of that respondent will be rescinded.

Initiation of Review

In accordance with section 751(a)(2)(B)(ii) of the Act and 19 CFR 351.214(d)(1), we are initiating a new shipper review of the antidumping duty order on certain preserved mushrooms from the PRC. We intend to issue the preliminary results of this review not later than 180 days after the date on which the review is initiated.

In accordance with 19 CFR 351.214(g)(1)(i)(B), the POR for a new shipper review, initiated in the month following the semi-annual anniversary month, will be the six-month period immediately proceeding the semi-annual anniversary month. Therefore, the POR for this new shipper review is:

Antidumping duty new shipper review proceeding | Period to be reviewed
PRC: Certain Preserved Mushrooms, A-570-851: Blue Field (Sichuan) Food Industrial Co., Ltd | 02/01/04- 07/31/04

We will instruct CBP to allow, at the option of the importer, the posting, until the completion of the review, of a bond or security in lieu of a cash deposit for each entry of the subject merchandise from the above-listed company. This action is in accordance with section 751(a)(2)(B)(iii) of the Act, as amended, and 19 CFR 351.214(e). Because Blue Field has certified that it both produces and exports the subject merchandise, the sale of which was the basis for its new shipper review request, we will apply the bonding privilege only to entries of subject merchandise for which it is both the producer and exporter.

Interested parties that need access to proprietary information in this new shipper review should submit applications for disclosure under administrative protective order in accordance with 19 CFR 351.305 and 351.306.

This initiation notice is published here in accordance with section 751(a)(2)(B)(ii) of the Act, 19 CFR 351.214(d) and 351.221(c)(1)(i).

Dated: September 17, 2004.
Jeffrey May,
Deputy Assistant Secretary for Import Administration.

[FR Doc. E4-2373 Filed 9-23-04; 8:45 am]

BILLING CODE 3510-DS-P